DEPARTMENT OF ENERGY

Federal Energy Regulatory Commission

[Project No. 2085]

Southern California Edison Company; Notice of Application and Applicant-Prepared EA Accepted for Filing, Soliciting Motions To Intervene and Protests, and Soliciting Comments, and Final Recommendations, Terms and Conditions, and Prescriptions

December 5, 2006.

Take notice that the following hydroelectric application and applicant-prepared environmental assessment has been filed with the Commission and is available for public inspection.

a. Type of Application: New—Major License.

b. Project No.: 2085-014.

c. Date Filed: November 29, 2005.

d. Applicant: Southern California Edison Company.

e. Name of Project: Mammoth Pool Hydroelectric Power Project.

f. Location: On the San Joaquin River, near North Fork, California. The project affects 2,036 cres of Federal land administered by the Sierra National Forest.

g. Filed Pursuant to: Federal Power Act 16 U.S.C. 791(a)-825(r).

h. Applicant Contact: Russ W. Krieger, Vice President Power Production, Southern California Edison Company, 300 N. Lone Hill Ave., San Dimas, CA 91773. Phone: 909-394-8667.

i. FERC Contact: Jim Fargo at (202) 502-6095, or e-mail: james.fargo@ferc.gov.

j. Deadline for filing motions to intervene and protests, comments, and final recommendations, terms and conditions, and prescriptions is 60 days from the issuance date of this notice; reply comments are due 105 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, recommendations, terms and conditions, and prescriptions may be filed electronically via the Internet in lieu of paper. The Commission strongly encourages electronic filings. See 18 CFR 385.2001(a)(1)(iii) and the instructions on the Commission's Web site http://www.ferc.gov under the “e-Filing” link.

k. This application has been accepted for filing.

l. Description of project: the Project is located in the central Sierra Nevada, within the San Joaquin River watershed, about 50 miles northeast of the City of Fresno. The Project is operated as a reservoir-storage type plant with an installed operating capacity of 190.0 MW and a dependable operating capacity of 187.0 MW. Water for the Project is taken from the San Joaquin River, Ross Creek, and Rock Creek and conveyed to the Mammoth Pool Powerhouse through the Mammoth Pool Tunnel.

The Project facilities include: the Mammoth Pool Dam forming Mammoth Pool Reservoir, with a capacity of about 119,940 acre-feet at an elevation of about 3,330 feet above mean sea level; one power tunnel about 7.5 miles long, to convey water from Mammoth Pool Reservoir to Mammoth Pool Powerhouse; two small diversions on Rock Creek and Ross Creek; and one 230 kV transmission line about 6.7 miles long that connects the Mammoth Pool Powerhouse to the non-project Big Creek No. 3 Switchyard. Type of Application: New—Major Modified License

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS”, “REPLY COMMENTS”, “RECOMMENDATIONS”, “TERMS AND CONDITIONS”, or “PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via e-mail of new filings and issuances related to this or other pending projects. For assistance, contact FERC Online Support.

o. Procedural schedule: The application will be processed according to the following Hydro Licensing Schedule. Revisions to the schedule will be made if the Commission determines it necessary to do so:

Milestone | Tentative date
Notice of the availability of the draft EIS | June 2007.
Notice of the availability of the final EIS | November 2007.

Magalie R. Salas,
Secretary.

[FR Doc. E6-21070 Filed 12-11-06; 8:45 am]

BILLING CODE 6717-01-P